COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products to the Procurement List that will be furnished by nonprofit agencies employing persons who are blind or have other severe disabilities.

DATES: Date added to the Procurement List: March 4, 2018.

ADDRESSES: Committee for Purchase From People Who Are Blind or Severely Disabled, 1401 S Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Additions

On 5/26/2017 (82 FR 101) and 12/22/2017 (82 FR 245), the Committee for Purchase From People Who Are Blind or Severely Disabled published notices of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN—Product Name: 5340-00-158-3805—Padlock, Laminated Case, 1.75″, Wide Steel, No Chain

Mandatory Source of Supply: LC Industries, Inc., Durham, NC

Contracting Activity: Defense Logistics Agency Troop Support

Comments were received from one (1) potentially affected subcontractor in response to the Commission's notice published in the Federal Register. In its comment, the subcontractor asserts that “. . . from a legal perspective, it could easily be argued that [we are] the `current contractor' as Lockheed Martin is simply a distributor . . .”

In accordance with 41 CFR 51-2.4(4), Level of impact on the current contractor, the Commission completed an impact analysis on the commercial entity that is the current contractor for the Government that is providing the product or service being considered for addition to the Procurement List. As the commenter identified itself as a subcontractor to the Government prime contractor, the Commission was not required to consider impact on the commercial entity represented by the commenter.

NSN—Product Name: MR 1178—Mop, Microfiber, Spin, Includes Bucket

Mandatory for: The requirements of military commissaries and exchanges in accordance with the Code of Federal Regulations 41 CFR 51-6.4

Mandatory Sources of Supply: LC Industries, Inc., Durham, NC

Contracting Activity: Defense Commissary Agency

Patricia Briscoe,
Deputy Director, Business Operations, (Pricing and Information Management).

[FR Doc. 2018-02108 Filed 2-1-18; 8:45 am]

BILLING CODE 6353-01-P